DEPARTMENT OF ENERGY

Federal Energy Regulatory Commission

Combined Notice of Filings #2

Take notice that the Commission received the following electric rate filings:

Docket Numbers: ER10-1556-007.

Applicants: Longview Power, LLC.

Description: Supplement to May 13, 2015 Notice of Change in Status of Longview Power, LLC.

Filed Date: 7/28/15.

Accession Number: 20150728-5149.

Comments Due: 5 p.m. ET 8/18/15.

Docket Numbers: ER10-1901-010.

Applicants: Upper Peninsula Power Company.

Description: Supplement to October 16, 2014 Notice of Non-Material Change in Status of Upper Peninsula Power Company.

Filed Date: 7/24/15.

Accession Number: 20150724-5166.

Comments Due: 5 p.m. ET 8/14/15.

Docket Numbers: ER13-913-006.

Applicants: Ohio Valley Electric Corporation.

Description: Compliance filing: Compliance filing on Attachment M to be effective 6/1/2015.

Filed Date: 7/31/15.

Accession Number: 20150731-5131.

Comments Due: 5 p.m. ET 8/21/15.

Docket Numbers: ER13-2109-004; ER13-2106-004; ER10-1410-004; ER13-321-004; ER13-412-003; ER13-450-003; ER13-434-003; ER13-518-003; ER13-1403-005; ER14-2140-004; ER14-2141-004; ER15-632-002; ER15-634-002; ER14-2466-003; ER14-2465-003; ER15-1952-001.

Applicants: Fowler Ridge Wind Farm LLC, NedPower Mount Storm, LLC, Virginia Electric and Power Company, Fairless Energy, LLC, Dominion Nuclear Connecticut, Inc., Dominion Energy Manchester Street, Inc., Dominion Energy Marketing, Inc., Dominion Retail, Inc., Dominion Bridgeport Fuel Cell, LLC, Mulberry Farm, LLC, Selmer Farm, LLC, CID Solar, LLC, Cottonwood Solar, LLC, RE Camelot LLC, RE Columbia Two LLC, Pavant Solar LLC.

Description: Notice of Non-Material Change in Status of the Dominion Companies.

Filed Date: 7/30/15.

Accession Number: 20150730-5269.

Comments Due: 5 p.m. ET 8/20/15.

Docket Numbers: ER15-2330-000.

Applicants: ORNI 37 LLC.

Description: Baseline eTariff Filing: Petition of ORNI 37 LLC for Approval of Initial Market-Based Rate Tariff to be effective 9/1/2015.

Filed Date: 7/31/15.

Accession Number: 20150731-5075.

Comments Due: 5 p.m. ET 8/21/15.

Docket Numbers: ER15-2331-000.

Applicants: PJM Interconnection, L.L.C., Baltimore Gas and Electric Company.

Description: Section 205(d) Rate Filing: BG&E submits revisions to OATT Attachment H-2A to be effective 10/1/2015.

Filed Date: 7/31/15.

Accession Number: 20150731-5095.

Comments Due: 5 p.m. ET 8/21/15.

Docket Numbers: ER15-2332-000.

Applicants: Public Service Company of New Mexico.

Description: Application of Public Service Company of New Mexico to terminate Construction Agreements not filed in eTariff.

Filed Date: 7/31/15.

Accession Number: 20150731-5105.

Comments Due: 5 p.m. ET 8/21/15.

Docket Numbers: ER15-2333-000.

Applicants: PPL Electric Utilities Corporation.

Description: Notice of Termination of MBR Power Sales Service Agreement No. 166 of PPL Electric Utilities Corporation.

Filed Date: 7/31/15.

Accession Number: 20150731-5108.

Comments Due: 5 p.m. ET 8/21/15.

Docket Numbers: ER15-2334-000.

Applicants: PJM Interconnection, L.L.C.

Description: Section 205(d) Rate Filing: Original Service Agreement No. 4219; Queue AA1-067 (Interim ISA) to be effective 7/10/2015.

Filed Date: 7/31/15.

Accession Number: 20150731-5111.

Comments Due: 5 p.m. ET 8/21/15.

Docket Numbers: ER15-2335-000.

Applicants: PJM Interconnection, L.L.C., American Electric Power Service Corporation.

Description: Section 205(d) Rate Filing: AEP submits an Interconnection and Local Delivery Agreement No. 4234 to be effective 7/1/2015.

Filed Date: 7/31/15.

Accession Number: 20150731-5114.

Comments Due: 5 p.m. ET 8/21/15.

Docket Numbers: ER15-2336-000.

Applicants: Aspirity Energy Northeast LLC.

Description: Baseline eTariff Filing: Aspirity Northeast Tariff to be effective 7/31/2015.

Filed Date: 7/31/15.

Accession Number: 20150731-5121.

Comments Due: 5 p.m. ET 8/21/15.

Docket Numbers: ER15-2337-000.

Applicants: PJM Interconnection, L.L.C.

Description: Section 205(d) Rate Filing: First Revised Service Agreement No. 3763; Queue #Z2-112 to be effective 7/1/2015.

Filed Date: 7/31/15.

Accession Number: 20150731-5132.

Comments Due: 5 p.m. ET 8/21/15.

Docket Numbers: ER15-2338-000.

Applicants: Midcontinent Independent System Operator, Inc., Ameren Transmission Company of Illinois.

Description: Section 205(d) Rate Filing: 2015-07-31_ATXI Depreciation Rate Filing to be effective 10/1/2015.

Filed Date: 7/31/15.

Accession Number: 20150731-5139.

Comments Due: 5 p.m. ET 8/21/15.

Docket Numbers: ER15-2339-000.

Applicants: New England Power Pool Participants Committee.

Description: Section 205(d) Rate Filing: July 31, 2015 Membership Filing to be effective 8/1/2015.

Filed Date: 7/31/15.

Accession Number: 20150731-5140.

Comments Due: 5 p.m. ET 8/21/15.

Docket Numbers: ER15-2340-000.

Applicants: Aspirity Energy Mid-States LLC.

Description: Baseline eTariff Filing: Aspirity Mid-States MBR to be effective 7/31/2015.

Filed Date: 7/31/15.

Accession Number: 20150731-5141.

Comments Due: 5 p.m. ET 8/21/15.

Docket Numbers: ER15-2341-000.

Applicants: Southwest Power Pool, Inc.

Description: Section 205(d) Rate Filing: 1518R10 Arkansas Electric Cooperative Corp NITSA NOA to be effective 7/1/2015.

Filed Date: 7/31/15.

Accession Number: 20150731-5143.

Comments Due: 5 p.m. ET 8/21/15.

Docket Numbers: ER15-2342-000.

Applicants: Arizona Public Service Company.

Description: Section 205(d) Rate Filing: Rate Schedule No. 217 Exhibit B Revisions to be effective 9/30/2015.

Filed Date: 7/31/15.

Accession Number: 20150731-5152.

Comments Due: 5 p.m. ET 8/21/15.

Docket Numbers: ER15-2343-000.

Applicants: Arizona Public Service Company.

Description: Section 205(d) Rate Filing: Rate Schedule No. 252 Amendment No. 1—Morgan-Pinnacle Peak with SRP to be effective 9/30/2015.

Filed Date: 7/31/15.

Accession Number: 20150731-5153.

Comments Due: 5 p.m. ET 8/21/15.

Docket Numbers: ER15-2344-000.

Applicants: New York Independent System Operator, Inc.

Description: Section 205(d) Rate Filing: 205 Att K Credit Support for External Transactions to be effective 10/28/2015.

Filed Date: 7/31/15.

Accession Number: 20150731-5154.

Comments Due: 5 p.m. ET 8/21/15.

Take notice that the Commission received the following land acquisition reports:

Docket Numbers: LA15-2-000.

Applicants: Alabama Power Company, Georgia Power Company, Gulf Power Company, Mississippi Power Company, Southern Power Company.

Description: Quarterly Land Acquisition Report of Alabama Power Company, et al.

Filed Date: 7/31/15.

Accession Number: 20150731-5129.

Comments Due: 5 p.m. ET 8/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2015.
Nathaniel J. Davis, Sr.,
Deputy Secretary.

[FR Doc. 2015-19298 Filed 8-5-15; 8:45 am]

BILLING CODE 6717-01-P